DEPARTMENT OF LABOR

Employment and Training Administration

[TA-W-38,815 and TA-W-38,815A]

Johnston Industries, Inc., Columbus, GA, Johnston Industries, Inc., New York, NY; Amended Certification Regarding Eligibility To Apply for Worker Adjustment Assistance

In accordance with section 223 of the Trade Act of 1974 (19 U.S.C. 2273) the Department of Labor issued a Certification of Eligibility to Apply for Worker Adjustment Assistance on May 8, 2001, applicable to workers of Johnston Industries, Inc., Columbus, Georgia. The notice was published in the Federal Register on May 23, 2001 (66 FR 28554).

At the request of the company, the Department reviewed the certification for workers of the subject firm. The workers are engaged in the production of industrial fabrics. The company reports that worker separations occurred at the New York, New York location of Johnston Industries, Inc. The New York, New York location provides marketing and sales functions directly supporting the subject firm's production facility in Columbus, Georgia.

Accordingly, the Department is amending the certification to include workers of Johnston Industries, Inc., New York, New York.

The intent of the Department's certification is to include all workers of Johnston Industries, Inc. adversely affected by increased imports of industrial fabrics.

The amended notice applicable to TA-W-38,815 is hereby issued as follows:

All workers of Johnston Industries, Inc., Columbus, Georgia (TA-W-38,815) and Johnston Industries, New York, New York (TA-W-38,815A) who became totally or partially separated from employment on or after February 15, 2000, through May 8, 2003, are eligible to apply for adjustment assistance under Section 223 of the Trade Act of 1974.

Signed at Washington, D.C. this 4th day of September, 2001.
Edward A. Tomchick,
Director, Division of Trade Adjustment Assistance.

[FR Doc. 01-24814 Filed 10-3-01; 8:45 am]

BILLING CODE 4510-30-M